DEPARTMENT OF COMMERCE

National Oceanic and Atmospheric Administration

[RTID 0648-XA246]

Marine Mammals; File No. 23966

AGENCY: National Marine Fisheries Service (NMFS), National Oceanic and Atmospheric Administration (NOAA), Commerce.

ACTION: Notice; receipt of application.

SUMMARY: Notice is hereby given that Christopher Cilfone, Be Blue, 193a Fleming Rd., Lahaina, HI 96761, has applied in due form for a permit to conduct commercial or educational photography on humpback whales (Megaptera novaeangliae).

DATES: Written, telefaxed, or email comments must be received on or before August 13, 2020.

ADDRESSES: These documents are also available upon written request via email to NMFS.Pr1Comments@noaa.gov.

Written comments on this application should be submitted via email to NMFS.Pr1Comments@noaa.gov. Please include File No. 23966 in the subject line of the email comment.

Those individuals requesting a public hearing should submit a written request via email to NMFS.Pr1Comments@noaa.gov. The request should set forth the specific reasons why a hearing on this application would be appropriate.

FOR FURTHER INFORMATION CONTACT: Carrie Hubard or Shasta McClenahan, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film humpback whales in the waters of Maui County, Hawaii. Footage would be used to create a series of documentary films that highlight humpback whale and their conservation. Up to 100 humpback whales would be filmed annually from a boat, unmanned aircraft system, remotely operated vehicle, and by free divers. One hundred bottlenose (Tursiops truncatus), 100 pantropical spotted (Stenella attenuata), and 500 spinner (Stenella longirostris) dolphins may be incidentally filmed or harassed annually. The permit would expire on December 31, 2025.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 9, 2020.
Amy Sloan,
Acting Chief, Permits and Conservation Division, Office of Protected Resources, National Marine Fisheries Service.

[FR Doc. 2020-15143 Filed 7-13-20; 8:45 am]

BILLING CODE 3510-22-P